DEPARTMENT OF TRANSPORTATION

Federal Aviation Administration

14 CFR Part 39

[Docket No. 2000-NM-290-AD]

RIN 2120-AA64

Airworthiness Directives; Fokker Model F.28 Mark 0070 and Mark 0100 Series Airplanes

AGENCY: Federal Aviation Administration, DOT.

ACTION: Notice of proposed rulemaking (NPRM).

SUMMARY: This document proposes the supersedure of an existing airworthiness directive (AD), applicable to all Fokker Model F.28 Mark 0070 and Mark 0100 series airplanes, that currently requires revising the Airplane Flight Manual (AFM) to provide the flightcrew with instructions not to arm the liftdumper system prior to commanding the landing gear to extend. For Model F.28 Mark 0100 series airplanes, the existing AD also requires modification of the grounds of the shielding of the wheelspeed sensor wiring of the main landing gear (MLG) and installation of new electrical grounds for the wheelspeed sensor channel of the anti-skid control box of the MLG. The proposed AD would remove the previous revision of the AFM and would require a new limitation and a new warning. This proposal is prompted by issuance of mandatory continuing airworthiness information by a foreign civil airworthiness authority. The actions specified by the proposed AD are intended to prevent inadvertent deployment of the liftdumpers during approach for landing or reduced brake pressure during low speed taxiing, and consequent reduced controllability and performance of the airplane.

DATES: Comments must be received by February 15, 2001.

ADDRESSES: Submit comments in triplicate to the Federal Aviation Administration (FAA), Transport Airplane Directorate, ANM-114, Attention: Rules Docket No. 2000-NM-290-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2000-NM-290-AD” in the subject line and need not be submitted in triplicate. Comments sent via the Internet as attached electronic files must be formatted in Microsoft Word 97 for Windows or ASCII text.

The service information referenced in the proposed rule may be obtained from Fokker Services B.V., P.O. Box 231, 2150 AE Nieuw Vennep, the Netherlands. This information may be examined at the FAA, Transport Airplane Directorate, 1601 Lind Avenue, SW., Renton, Washington.

FOR FURTHER INFORMATION CONTACT: Norman B. Martenson, Manager, International Branch, ANM-116, FAA, 1601 Lind Avenue, SW., Renton, Washington 98055-4056; telephone (425) 227-2110; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-290-AD.” The postcard will be date stamped and returned to the commenter.

Availability of NPRMs

Any person may obtain a copy of this NPRM by submitting a request to the FAA, Transport Airplane Directorate, ANM-114, Attention: Rules Docket No. 2000-NM-290-AD, 1601 Lind Avenue, SW., Renton, Washington 98055-4056.

Discussion

On September 21, 1999, the FAA issued AD 99-20-07, amendment 39-11337 (64 FR 52219, September 28, 1999), applicable to all Fokker Model F.28 Mark 0070 and Mark 0100 series airplanes, to require revising the Airplane Flight Manual (AFM) to provide the flightcrew with instructions not to arm the liftdumper system prior to commanding the landing gear to extend. For Model F.28 Mark 0100 series airplanes, the existing AD also requires modification of the grounds of the shielding of the wheelspeed sensor wiring of the main landing gear (MLG) and installation of new electrical grounds for the wheelspeed sensor channel of the anti-skid control box of the MLG. That action was prompted by issuance of mandatory continuing airworthiness information by a foreign civil airworthiness authority. The requirements of that AD are intended to prevent electromagnetic interference generated by electrical wiring that runs parallel to the wheelspeed sensor wiring, which could result in inadvertent deployment of the liftdumpers during approach for landing or reduced brake pressure during low speed taxiing, and consequent reduced controllability and performance of the airplane.

Since Issuance of Previous Rule

Since the issuance of AD 99-20-07, the Rijksluchtvaartdienst (RLD), which is the airworthiness authority for the Netherlands, reports another inadvertent deployment of the liftdumpers that occurred on a Fokker Model F.28 Mark 0100 series airplane. The pilot's report indicated that the flightcrew had armed the liftdumpers just after making the landing gear DOWN selection, whereupon the liftdumpers extended almost instantaneously. The RLD has issued Dutch airworthiness directive 1998-042/2, dated February 29, 2000, to ensure the continued airworthiness of these airplanes in the Netherlands. The Dutch airworthiness directive advises the flight crew not to arm the liftdumpers before the landing gear is down and locked.

FAA's Conclusions

These airplane models are manufactured in the Netherlands and are type certificated for operation in the United States under the provisions of section 21.29 of the Federal Aviation Regulations (14 CFR 21.29) and the applicable bilateral airworthiness agreement. Pursuant to this bilateral airworthiness agreement, the RLD has kept the FAA informed of the situation described above. The FAA has examined the findings of the RLD, reviewed all available information, and determined that AD action is necessary for products of this type design that are certificated for operation in the United States.

Explanation of Requirements of Proposed Rule

Since an unsafe condition has been identified that is likely to exist or develop on other airplanes of the same type design registered in the United States, the proposed AD would supersede AD 99-20-07 to require revising the AFM by removing the previous revision which instructed the flightcrew not to arm the liftdumper system prior to commanding the landing gear to extend and by inserting a new limitation and a new warning not to arm the liftdumpers before the landing gear is down and locked in position. For Model F.28 Mark 0100 series airplanes, the proposed AD would continue to require modification of the grounds of the shielding of the wheelspeed sensor wiring of the MGL and installation of new electrical grounds for the wheelspeed sensor channel of the anti-skid control box of the landing gear.

Cost Impact

There are approximately 123 airplanes of U.S. registry that would be affected by this proposed AD.

The modifications that are currently required by AD 99-20-07 take approximately 33 work hours per airplane to accomplish, at an average labor rate of $60 per work hour. Required parts cost approximately $755 to $1,236 per airplane. Based on these figures, the cost impact of the currently required actions on U.S. operators is estimated to be between $336,405 and $395,568, or between $2,735 and $3,216 per airplane.

The revision to the AFM that is proposed in this AD would take approximately 1 work hour per airplane to accomplish, at an average labor rate of $60 per work hour. Based on these figures, the cost impact of the proposed requirements of this AD on U.S. operators is estimated to be $7,380, or $60 per airplane.

The cost impact figures discussed above are based on assumptions that no operator has yet accomplished any of the current or proposed requirements of this AD action, and that no operator would accomplish those actions in the future if this AD were not adopted.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11337 (64 FR 52219, September 28, 1999), and by adding a new airworthiness directive (AD), to read as follows:

Fokker Services B.V.: Docket 2000-NM-290-AD. Supersedes AD 99-20-07, Amendment 39-11337.

Applicability: All Fokker Model F.28 Mark 0070 and Mark 0100 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent inadvertent deployment of the liftdumper systems during the approach for landing or reduced brake pressure during low speed taxiing, and consequent reduced controllability and performance of the airplane, accomplish the following:

Restatement of Certain Requirements of AD 99-20-07

Corrective Actions

(a) For Model F.28 Mark 0100 series airplanes having serial numbers as listed in Fokker Service Bulletin SBF100-32-067, Revision 1, dated July 6, 1998: Within 6 months after November 2, 1999 (the effective date of AD 99-20-07, amendment 39-11337), modify the grounds of the shielding of the wheelspeed sensor wiring of the main landing gear (MLG) in accordance with part 1, 2, 3, or 4 of the Accomplishment Instructions of the service bulletin, as applicable.

Note 2: Modifications accomplished prior to November 2, 1999, in accordance with Fokker Service Bulletin SBF100-32-067, dated March 12, 1993, are considered acceptable for compliance with the requirements of paragraph (a) of this AD.

(b) For Model F.28 Mark 0100 series airplanes having serial numbers as listed in Fokker Service Bulletin SBF100-32-037, Revision 2, dated December 4, 1998: Within 12 months after November 2, 1999, install new electrical grounds for the wheelspeed sensor channel of the anti-skid control box of the MLG in accordance with part 1, 2, or 3 of the Accomplishment Instructions of the service bulletin, as applicable.

Note 3: Installations accomplished prior to November 2, 1999, in accordance with Fokker Service Bulletin SBF100-32-037, dated November 12, 1990, or Revision 1, dated November 16, 1998, are considered acceptable for compliance with the requirements of paragraph (b) of this AD.

New Actions Required by This AD

Revision of the Airplane Flight Manual

(c) Within 10 days after the effective date of this AD, revise the Limitations and Normal Procedures sections of the FAA-approved Airplane Flight Manual (AFM) in accordance with paragraphs (c)(1), (c)(2), (c)(3) and (c)(4) of this AD. This may be accomplished by inserting a copy of this AD into the appropriate sections of the AFM.

(1) Remove the following information from the Limitations section:

“LIFTDUMPER SYSTEM—DO NOT ARM THE LIFTDUMPER SYSTEM BEFORE LANDING GEAR DOWN SELECTION.”

(2) Add the following information to the Limitations section in the Miscellaneous Limitations sub-section:

“FLIGHT CONTROLS—NORMAL OPERATION OF LIFTDUMPERS: DO NOT ARM THE LIFTDUMPER SYSTEM BEFORE LANDING GEAR IS DOWN AND LOCKED.”

(3) Remove the following information from Section 5—Normal Procedures, sub-section Approach and Landing, after the subject Approach:

“BEFORE LANDING—WARNING: DO NOT ARM THE LIFTDUMPER SYSTEM BEFORE LANDING GEAR DOWN SELECTION. Selecting Landing Gear DOWN after arming the liftdumper system may result in inadvertent deployment of the liftdumpers, because the liftdumper arming test may be partially ineffective.”

(4) Add the following information to Section 5—Normal Procedures, sub-section Approach and Landing, after the subject Approach:

“BEFORE LANDING— WARNING: DO NOT ARM THE LIFTDUMPER SYSTEM BEFORE LANDING GEAR IS DOWN AND LOCKED.”

Alternative Methods of Compliance

(d) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Note 5: The subject of this AD is addressed in Dutch airworthiness directive 1998-042/2, dated February 29, 2000.

Issued in Renton, Washington, on January 9, 2001.
Donald L. Riggin,
Acting Manager, Transport Airplane Directorate, Aircraft Certification Service.

[FR Doc. 01-1236 Filed 1-12-01; 8:45 am]

BILLING CODE 4910-13-P